SOCIAL SECURITY ADMINISTRATION

Agency Information Collection Activities: Proposed Request and Comment Request

The Social Security Administration (SSA) publishes a list of information collection packages requiring clearance by the Office of Management and Budget (OMB) in compliance with Public Law 104-13, the Paperwork Reduction Act of 1995, effective October 1, 1995. This notice includes one new information collection, one extension of an OMB-approved information collection, and several revisions to existing information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB), Office of Management and Budget, Attn: Desk Officer for SSA, Fax: 202-395-6974, Email address: OIRA_Submission@omb.eop.gov.

(SSA), Social Security Administration, DCRDP, Attn: Reports Clearance Director, 107 Altmeyer Building, 6401 Security Blvd., Baltimore, MD 21235, Fax: 410-966-2830, Email address: OPLM.RCO@ssa.gov.

I. The information collections below are pending at SSA. SSA will submit them to OMB within 60 days from the date of this notice. To be sure we consider your comments, we must receive them no later than July 10, 2012. Individuals can obtain copies of the collection instruments by writing to the above email address.

1. Automated Scheduling Application (ASA)—20 CFR 404.929, 404.936, 404.950, 416.1429, 416.1436, and 416.1450-416.1451—0960—NEW. SSA is creating an online-based scheduling tool, the Automated Scheduling Application (ASA), to document the availability and special needs of participants for hearings before administrative law judges (ALJ). The respondents are disability applicants or recipients, ALJ staff, SSA Hearing Office employees, appointed representatives, medical experts, vocational experts, and verbatim hearing recorders who need to schedule or request special needs related to an ALJ hearing. All respondents will use the ASA system (via SSA's Intranet for SSA employees, and a public-facing Internet site for members of the public) to document their hearings availability and needs, and to view scheduled hearings in an electronic calendar. SSA staff will provide technical support to external users via our 800 number.

Type of Request: This is a new information collection request.

Respondent type | Number of respondents | Frequency of response | Number of responses | Average burden per response (minutes) | Estimated total annual burden (hours)
Medical Experts, Vocational Experts & Hearing Reporters—Availability reported using the external ASA | 3,300 | 52 | 171,600 | 8 | 22,880
Appointed Representatives—Availability reported using the external ASA | 16,600 | 52 | 863,200 | 8 | 115,093
Medical Experts, Vocational Experts & Hearing Reporters—requests to HO to change availability using internal ASA | 3,300 | 6 | 19,800 | 8 | 2,640
Appointed Representatives—requests to HO to change availability using internal ASA | 16,600 | 6 | 99,600 | 8 | 13,280
Totals | 39,800 |  | 1,154,200 |  | 153,893

2. Statement of Claimant or Other Person—20 CFR 404.702 & 416.570—0960-0045. In cases where claimants or others want to share information relating to Supplemental Security Income (SSI) or Social Security benefits, and SSA has no standard form to document this information, the agency uses form SSA-795. The agency documents whatever information the claimant or other member of the public provides, and considers it when processing benefits claims or when making decisions on ongoing issues relating to the above programs. The respondents are applicants or recipients of SSI or Social Security benefits, or others who are in a position to provide relevant information on an existing claim or case.

Type of Request: Revision of an OMB-approved information collection.

Collection instrument | Number of respondents | Frequency of response | Average burden per response (minutes) | Estimated total annual burden (hours)
SSA-795 | 305,500 | 1 | 15 | 76,375

3. Authorization for the Social Security Administration to Obtain Account Records from a Financial Institution and Request for Records (Medicare)—0960-0729. Under the aegis of the Medicare Modernization Act of 2003, Medicare beneficiaries can apply for a Medicare Prescription Drug Plan (Part D) program subsidy. In some cases, SSA will verify the details of applicants' accounts at financial institutions to determine if they are eligible for the subsidy. Form SSA-4640 provides the applicant authorization SSA needs to contact financial institutions about applicants' accounts. Financial institutions use the form to verify the information SSA requests. The respondents are applicants for the Medicare Part D program subsidy, and the financial institutions where these applicants are account holders.

Type of Request: Revision of an OMB-approved information collection.

Type of respondent | Number of respondents | Frequency of Response | Average burden per response (minutes) | Estimated total annual burden (hours)
Medicare Part D Subsidy Applicants | 5,000 | 1 | 1 | 83
Financial Institutions | 5,000 | 1 | 4 | 333
Totals | 10,000 |  |  | 416

4. Statement of Reclamation Action—31 CFR Part 210—0960-0734.

Regulations governing the Federal Government Participation in the Automated Clearing House (1) allow SSA to send Social Security payments to Canada and (2) mandate the reclamation of funds paid erroneously to a Canadian bank or financial institution after the death of a Social Security beneficiary. SSA uses Form SSA-1713, Notice of Reclamation Action, to collect information to determine if, how, and when the Canadian bank or financial institution is going to return erroneous payments after the death of a Social Security beneficiary who elected to have payments sent to Canada. Form SSA-1712 (or SSA-1712 CN), Notice of Reclamation-Canada Payment Made in the United States, is the cover sheet SSA prepares to request return of the payment. The respondents are Canadian banks and financial institutions who erroneously received Social Security payments.

Type of Request: Revision of an OMB-approved information collection.

Collection instrument | Number of respondents | Frequency of response | Average burden per response (minutes) | Estimated total annual burden (hours)
SSA-1713 | 15 | 1 | 5 | 1

II. SSA submitted the information collections below to OMB for clearance. Your comments regarding the information collections would be most useful if OMB and SSA receive them within 30 days from the date of this publication. To be sure we consider your comments, we must receive them no later than June 11, 2012. Individuals can obtain copies of the OMB clearance packages by writing to OPLM.RCO@ssa.gov.

1. Request for Reconsideration—Disability Cessation—20 CFR 404.909, 416.1409—0960-0349. SSA uses Form SSA-789-U4 to arrange for a hearing or to prepare a decision based on the evidence of record. Specifically, claimants or their representatives use Form SSA-789-U4 to (1) ask SSA to reconsider a determination; (2) indicate if they wish to appear at a disability hearing; (3) submit any additional information or evidence for use in the reconsidered determination; and (4) indicate if they will need an interpreter for the hearing. The respondents are applicants or claimants for Social Security benefits or SSI payments.

Type of Request: Revision of an OMB-approved information collection.

Collection instrument | Number of respondents | Frequency of response | Average burden per response (minutes) | Estimated total annual burden (hours)
SSA-789-U4 | 30,000 | 1 | 13 | 6,500

2. Prohibition of Payment of SSI Benefits to Fugitive Felons and Parole/Probation Violators—20 CFR 416.708(o)—0960-0617. Section 1611(e)(4) of the Social Security Act precludes eligibility for SSI payments for certain fugitives and probation/parole violators. Regulations at 20 CFR 416.708(o) require individuals applying for or receiving SSI benefits to report to SSA that (1) they are fleeing to avoid prosecution for a crime; (2) they are fleeing to avoid custody or confinement after conviction of a crime; or (3) they are violating a condition of probation or parole. SSA uses the information we receive to deny eligibility, or to suspend recipients' SSI payments. The respondents are SSI applicants and recipients, or representative payees of SSI applicants and recipients, who are reporting their status as a fugitive felons or probation/parole violators.

Type of Request: Extension of an OMB-approved information collection.

Collection instrument | Number of respondents | Frequency of response | Average burden per response (minutes) | Estimated total annual burden (hours)
Modernized SSI Claims System Screens | 1,000 | 1 | 1 | 17

Dated: May 7, 2012.
Naomi Sipple,
Reports Clearance Analyst, Office of Regulations and Reports Clearance, Social Security Administration.

[FR Doc. 2012-11328 Filed 5-10-12; 8:45 am]

BILLING CODE 4191-02-P